DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency, as part of its continuing effort to reduce paperwork and respondent burden, invites the general public and other Federal agencies to take this opportunity to comment on a proposed revised information collection. In accordance with the Paperwork Reduction Act of 1995, this notice seeks comments concerning the end-of-course evaluation form used to evaluate all National Fire Academy traditional classroom training.

SUPPLEMENTARY INFORMATION: The National Fire Academy (NFA) is mandated under the Fire Prevention and Control Act of 1974 (Public Law 93-498) to provide training and education to the Nation's fire service and emergency service personnel. The state-of-the-art programs offered by the NFA serve as models of excellence and state and local fire service agencies rely heavily on the curriculum to train their personnel. To maintain the quality of these training programs, it is critical that courses be evaluated to determine student satisfaction and reaction to the course materials, instructional delivery, and the training environment.

Collection of Information

Title: National Fire Academy End of Course Evaluation Form.

Type of Information Collection: Revision of a currently approved collection.

OMB Number: 1660-0032.

Form Numbers: FEMA Form 95-20, National Fire Academy End of Course Evaluation Form.

Abstract: The NFA End of Course Evaluation Form is used to evaluate all traditional classroom based course deliveries. The data provided by student evaluating NFA courses are used to determine the need for course improvements and the degree of student satisfaction with the training experience. All on-campus resident courses will use an online electronic form and all off-campus courses delivered at the state and local level will use a paper-based version of the form.

Affected Public: Individuals or households.

Estimated Total Annual Burden Hours: 3,500.

Annual Burden Hours
Project/activity (survey, form(s), focus group, worksheet, etc.) | Number of respondents | Frequency of responses | Burden hours per respondent | Annual responses | Total annual burden hours
| (A) | (B) | (C) | (D) = (A×B) | (E) = (C×D)
FF 95-20 Off-campus students | 5,000 | 1 | .25 | 5,000 | 1,250
FF 95-20 On-campus students | 9,000 | 1 | .25 | 9,000 | 2,250
Total | 14,000 | 1 | .25 | 14,000 | 3,500

Estimated Cost: The annualized cost to respondents for the hour burden is $65,800.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before March 20, 2007.

ADDRESSES: Interested persons should submit written comments to Chief, Records Management and Privacy, Information Resources Management Branch, Information Technology Services Division, Federal Emergency Management Agency, 500 C Street, SW., Room 316, Washington, DC 20472.

FOR FURTHER INFORMATION CONTACT: Terry Gladhill, Program Analyst, United States Fire Administration, National Fire Academy, (301) 447-1239 for additional information. You may contact the Records Management Branch for copies of the proposed collection of information at facsimile number (202) 646-3347 or e-mail address: FEMA-Information-Collections@dhs.gov.

Dated: January 11, 2007.
John A. Sharetts-Sullivan,
Chief, Records Management and Privacy, Information Resources Management Branch, Information Technology Services Division, Federal Emergency Management Agency, Department of Homeland Security.

[FR Doc. E7-674 Filed 1-18-07; 8:45 am]

BILLING CODE 9110-17-P